DEPARTMENT OF JUSTICE

Antitrust Division

Notice Pursuant to the National Cooperative Research and Production Act of 1993—National Center for Manufacturing Sciences, Inc.

Notice is hereby given that, on March 25, 2014, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances.

Specifically, the following members have been added as parties to this venture: Adapx, Inc., Seattle, WA; Anark Corporation, Boulder, CO; Bi-Phase Technologies, LLC, Eagan, MN; Caelynx, LLC, Ann Arbor, MI; Carnegie Melon University, Pittsburgh, PA; Dassault Systemes Corporation, Waltham, MA; Eagle Systems, Inc., California, MD; Engineering Technology Associates, Inc. (ETA, Inc.), Troy, MI; International TechneGroup Inc. dba ITI TranscenData, Milford, OH; Lectromechanical Design Company, LLC (Lectromec), Chantilly, VA; MET-L-FLO, Inc., Sugar Grove, IL; Perficient, Inc., St. Louis, MO; Saratoga Data Systems, Inc. (SDS), Carlile, MA; Sustainable Water Works, Detroit, MI; TECK CORP, Williamsburg, VA; United Global Group, Fredericksburg, VA; Unity Advisors Group, Lake Orion, MI; WinTec Arrowmaker, Inc., Fort Washington, MD; and Ziota Technology, Inc., St. Hubert, Quebec, CANADA.

Also, the following members have withdrawn as parties to this venture: Aerowing, Inc., Nashville, TN; Chicago Coatings Group, Skokie, IL; Curtiss-Wright Surface Technologies, Paramus, NJ; Dr. Diesel Technologies, Temecula, CA; EADS North America, Arlington, VA; Goodrich Corporation, Jacksonville, FL; KALO, LLC, Arlington, VA; Morris Technologies, Cincinnati, OH; Onodi Tool and Engineering Company, Melvindale, MI; Pratt & Miller Engineering & Fabrication, Inc., New Hudson, MI; Russells Technical Products, Inc., Holland, MI; Services & Solutions Group LLC, N. Charleston, SC; Solidica, Inc., Ann Arbor, MI; and University of Louisville, Louisville, KY.

No other changes have been made in either the membership or planned activity of the group research project. Membership in this group research project remains open, and NCMS intends to file additional written notifications disclosing all changes in membership.

On February 20, 1987, NCMS filed its original notification pursuant to Section 6(a) of the Act. The Department of Justice published a notice in the Federal Register pursuant to Section 6(b) of the Act on March 17, 1987 (52 FR 8375).

The last notification was filed with the Department on February 5, 2013. A notice was published in the Federal Register pursuant to Section 6(b) of the Act on March 7, 2013 (78 FR 14838).

Patricia A. Brink,
Director of Civil Enforcement, Antitrust Division.

[FR Doc. 2014-09783 Filed 4-29-14; 8:45 am]

BILLING CODE 4410-CW-P